DEPARTMENT OF HEALTH AND HUMAN SERVICES

Office of the Secretary

Office of the National Coordinator for Health Information Technology; Statement of Organization, Functions, and Delegations of Authority

Part A, Office of the Secretary, Statement of Organization, Functions, and Delegations of Authority for the Department of Health and Human Services, Part A, as last amended at 69 FR 51679-51680, dated August 20, 2004, and Chapter AA, Office of the Secretary, as last amended at 69 FR 51679-51680, dated August 20, 2004, are being amended to establish a new Chapter AR, the Office of the National Coordinator for Health Information Technology (ONC) within the Office of the Secretary. The changes are as follows:

I. Under Part A, Chapter AA, Section AA.10 Organization, insert the following: “Office of the National Coordinator for Health Information Technology (AR)”

II. Under Part A, establish a new Chapter AR, “Office of the National Coordinator for Health Information Technology (ONC)” to read as follows:

Section AR.00 Mission

Section AR.10 Organization

Section AR.20 Functions

Section AR.00 Mission: The Office of the National Coordinator for Health Information Technology provides leadership for the development and nationwide implementation of an interoperable health information technology infrastructure to improve the quality and efficiency of health care and the ability of consumers to manage their care and safety. The National Coordinator for Health Information Technology serves as the Secretary's principal advisor on the development, application, and use of health information technology; coordinates the Department of Health and Human Services' (HHS) health information technology programs; ensures that HHS health information technology policy and programs are coordinated with those of other relevant executive branch agencies; and to the extent permitted by law, develops, maintains, and directs the implementation of a strategic plan to guide the nationwide implementation of interoperable health information technology in both the public and private health care sectors that will reduce medical errors, improve quality, and produce greater value for health care expenditures, and coordinates outreach and consultation by the relevant executive branch agencies with the public and private sectors. The National Coordinator for Health Information Technology provides comments and advice at the request of OMB regarding specific Federal health information technology programs.

Section AR.10 Organization: The Office of the National Coordinator for Health Information Technology (ONC) is under the direction of the National Coordinator for Health Information Technology who reports directly to the Secretary. The office consists of the following components.

A. Immediate Office of the National Coordinator (ARA)

B. Office of Health Information Technology Adoption (ARB)

C. Office of Interoperability and Standards (ARC)

D. Office of Programs and Coordination (ARE)

E. Office of Policy and Research (ARF)

Section AR.20 Functions:

A. Immediate Office of the National Coordinator (ARA): The Immediate Office of the National Coordinator (IO/ONC) is headed by the National Coordinator, who provides executive direction to the office. The National Coordinator is responsible for carrying out ONC's mission and implementing the functions of the ONC. The IO/ONC: (1) Ensures that key health information technology initiatives are coordinated across HHS programs; (2) ensures that health information technology policy and programs of HHS are coordinated with those of relevant executive branch agencies (including Federal commissions and advisory committees) with a goal of avoiding duplication of efforts and of helping to ensure that each agency undertakes activities primarily within the areas of its greatest expertise and technical capability; (3) review Federal health information technology investments to ensure Federal health information technology programs are meeting the objectives of the strategic plan, required under Executive Order 13335, to create a nationwide interoperable health information technology infrastructure; (4) at the request of OMB, provides comments and advice regarding specific Federal health information technology programs; (5) develops, maintains, and reports on measurable outcome goals for health information technology to assess progress within HHS and other executive branch agencies; and in the private sector, in developing and implementing a nationwide interoperable health infrastructure; and (6) fulfills the administrative, reporting, infrastructure, and budget-preparation support needs of the office.

B. Office of Health Information Technology Adoption (ARB): The Office of Health Information Technology Adoption (OHITA) is headed by a Director. OHITA works and coordinates with all other ONC offices to identify health information technology strategies, and works with other relevant HHS offices to implement these strategies and monitor outcomes in fulfillment of the President's goals. Specifically, in coordination with other HHS offices, OHITA: (1) Develops and coordinates strategies to incentivize adoption of health information technology, to reduce the risk of health information technology investment, and to promote health information technology diffusion; (2) coordinates the development of strategies and guidance to create electronic personal health management tools and to enhance informed consumer choice for health care; (3) coordinates with relevant executive branch agencies in promoting and transferring health information technology to public sector; (4) identifies and documents evidence on the benefits and costs of interoperable health information technology and to whom the benefits and costs accrue; (5) assesses the current state of health information technology adoption, specifies measurable goals and methods for evaluating strategies and determines approaches that can accelerate health information technology adoption in a cost-effective manner; and (6) coordinates with other offices within ONC to develop recommendations regarding health information technology compliance certification processes, evaluates compliance certification processes for health information technology and assesses its effect on health information technology implementation.

C. Office of Interoperability and Standards (ARC): The Office of Interoperability and Standards (OIS) is headed by a Director. OIS works with and coordinates with other offices in ONC and HHS to provide leadership in the development and implementation of a nationwide interoperable health information technology infrastructure and advance the development, adoption, and implementation of interoperable health information technology standards. Specifically, in coordination with relevant HHS offices, OIS: (1) Fosters mechanisms that support the secure and seamless exchange of health information, including the use of standards, certified technology, and requirements for a nationwide architecture; (2) manages the federal health architecture program efforts and works with Federal agencies to ensure that Federal health information systems are coordinated and interoperable with any nationwide interoperable health information technology infrastructure; (3) advances the development, adoption, and implementation of health information technology standards nationally through collaboration among public and private interests that are consistent with current efforts of the Federal Government; (4) works with relevant HHS offices to evaluate mechanisms for harmonizing security and privacy practices in an interoperable health information technology architecture; and (5) promotes the development of performance measures related to the adoption of interoperable health information technology standards.

D. Office of Programs and Coordination (ARE): The Office of Programs and Coordination (OPC) is headed by a Director. OPC ensures complete integration of all efforts across ONC and supports the dissemination and adoption of the Administration's policy on health information technology. Specifically, in coordination with relevant HHS offices, OPC: (1) Provides infrastructure and management support for Secretary initiatives related to health information technology including FACA and other advisory committees; (2) provides the infrastructure support for health information technology programs to coordinate interrelating activities including workgroups and subcommittees; (3) monitors and measures all outcomes in support of health information technology initiatives; and (4) develops and coordinates with relevant HHS offices, including the Assistant Secretary for Public Affairs, outreach campaigns to educate the public about health information technology and its use of Web site materials, and other documents regarding ONC activities.

E. Office of Policy and Research (ARF): The Office of Policy and Research (OPR) is headed by a Director. The OPR coordinates with other ONC offices and conducts studies in support of ongoing health information technology and supports and coordinates efforts that inform policy decisions related to health IT. Specifically, in coordination with relevant HHS offices, OPR: (1) Ensures the smooth and efficient implementation of policies under the direction of the National Coordinator; (2) supports efforts to determine to what extent health information technology affects public and private business practices; (3) identifies privacy and security issues related to a nationwide health information technology infrastructure and strategies to ensure that patients' individually identifiable health information is secure and protected; (4) leads health information technology research efforts for ONC to help inform policy decisions and conducts key technical, scientific, economic, statistical and other studies related to health information technology; (5) develops procedures and pilot efforts for how medical knowledge can be collected, validated and available at the point of care; (6) facilitates discussions within HHS on the policy implications of key health information technology activities, and supports the National Coordinator in considering the policy implications of key health information technology activities; and (7) provides specialized technology and statistical expertise in support of policy proposal analysis.

Dated: August 11, 2005.
Michael O. Leavitt,
Secretary.

[FR Doc. 05-16446 Filed 8-18-05; 8:45 am]

BILLING CODE 4150-24-M